COMMISSION ON CIVIL RIGHTS

Agenda and Notice of Public Meeting of the New Hampshire Advisory Committee

AGENCY: Commission on Civil Rights.

ACTION: Announcement of meetings.

SUMMARY: Notice is hereby given, pursuant to the provisions of the rules and regulations of the U.S. Commission on Civil Rights (Commission), and the Federal Advisory Committee Act (FACA), that a planning meeting of the New Hampshire Advisory Committee to the Commission will convene at 4:00 p.m. (EDT) on Tuesday, September 11, 2018, in Room P435, University of New Hampshire, 88 Commercial Street, Manchester, NH. The purpose of the meeting is for project planning.

DATES: Tuesday, September 11, 2018, at 4:00 p.m. (EDT).

ADDRESSES: University of New Hampshire, Room P435, 88 Commercial St., Manchester, NH 03101.

FOR FURTHER INFORMATION CONTACT: Barbara J. Delaviez, Designated Federal Official (DFO), ero@usccr.gov, 202-376-7533.

SUPPLEMENTARY INFORMATION: If other persons who plan to attend the meeting require other accommodations, please contact Evelyn Bohor at ebohor@usccr.gov at the Eastern Regional Office at least ten (10) working days before the scheduled date of the meeting.

Members of the public are invited to make statements during the open comment period of the meeting or submit written comments. The comments must be received in the regional office approximately 30 days after each scheduled meeting. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at http://facadatabase.gov/committee/meetings.aspx?cid=262, and clicking on the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Agenda

• Welcome and Roll-call

Barbara J. Delaviez, Deputy Director and DFO, Eastern Regional Office

• Project Planning

• Next Steps

• Open Comment

Dated: August 28, 2018.
David Mussatt,
Supervisory Chief, Regional Programs Unit.

[FR Doc. 2018-19036 Filed 8-31-18; 8:45 am]

BILLING CODE 6335-01-P